DEPARTMENT OF JUSTICE

Antitrust Division

Notice Pursuant to the National Cooperative Research and Production Act of 1993—Enterprise Computer Telephony Forum

Notice is hereby given that, on August 2, 2000, pursuant to section 6(a) of the National Cooperative Research and Production Act of 1993, 15 U.S.C. 4301 et seq. (“the Act”), Enterprise Computer Telephony Forum (“ECTF”) has filed written notifications simultaneously with the Attorney General and the Federal Trade Commission disclosing changes in its membership status. The notifications were filed for the purpose of extending the Act's provisions limiting the recovery of antitrust plaintiffs to actual damages under specified circumstances. Specifically, Telesoft Technologies, Inc., Dorset, England, UNITED KINGDOM; Tenovis GmbH & Co. KG, Frankfurt, GERMANY; Call Sciences, Inc., Edison, NJ; Connect-It Communication B.V., Weert, THE NETHERLANDS; Elbit Systems Ltd., Haifa, ISRAEL; and Netergy Networks, Inc., Santa Clara, CA have been added as parties to this venture. Also, Telesoft Design, Ltd., Dorset, England, UNITED KINGDOM; Bosch Telecom GmbH, Frankfurt, GERMANY 8x8, Inc., Santa Clara, CA; and NetPhone, Marlborough, MA, have been dropped as parties to this venture.

No other changes have been made in either the membership or planned activity of the group research project. Membership in this group research project remains open, and ECTF intends to file additional written notifications disclosing all changes in membership.

On February 20, 1996, ECTF filed its original notification pursuant to Section 6(a) of the Act. The Department of Justice published a notice in the Federal Register pursuant to section 6(b) of the Act on May 13, 1996 (61 FR 22074).

The last notification was filed with the Department on June 12, 2000. A notice for this filing has not yet been published in the Federal Register.

Constance K. Robinson,
Director of Operations, Antitrust Division.

[FR Doc. 00-27533 Filed 10-25-00; 8:45 am]

BILLING CODE 4410-11-M